DEPARTMENT OF HEALTH AND HUMAN SERVICES

Administration for Children and Families

Submission for OMB Review; Comment Request

Title: Online Interstate Referral Guide.

OMB No.: 0970-0209.

Description: The IRG is an essential reference maintained by OCSE that provides states with an effective and efficient way of viewing and updating state profile, address, and FIPS code information by consolidating data available through numerous discrete sources into a single centralized, automated repository.

Respondents: State IV-D Child Support Programs.

Annual Burden Estimates

Instrument | Number of respondents | Number of responses per respondent | Average burden hours per response | Total burden hours
Online IRG | 54 | 18 | .3 | 292
Estimated Total Annual Burden Hours |  |  |  | 292

Additional Information: Copies of the proposed collection may be obtained by writing to the Administration for Children and Families, Office of Administration, Office of Information Services, 3780 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: December 18, 2002.
Robert Sargis,
Reports Clearance Officer.

[FR Doc. 02-32369 Filed 12-23-02; 8:45 am]

BILLING CODE 4184-01-M